NUCLEAR REGULATORY COMMISSION

[NRC-2015-0261]

Biweekly Notice; Applications and Amendments to Facility Operating Licenses and Combined Licenses Involving No Significant Hazards Considerations

AGENCY: Nuclear Regulatory Commission.

ACTION: Biweekly notice.

SUMMARY: Pursuant to Section 189a. (2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from October 27, 2015, to November 9, 2015. The last biweekly notice was published on November 10, 2015.

DATES: Comments must be filed by December 24, 2015. A request for a hearing must be filed January 25, 2016.

ADDRESSES: You may submit comments by any of the following methods (unless this document describes a different method for submitting comments on a specific subject):

• Federal Rulemaking Web site: Go to http://www.regulations.gov and search for Docket ID NRC-2015-0261. Address questions about NRC dockets to Carol Gallagher; telephone: 301-415-3463; email: Carol.Gallagher@nrc.gov.

• Mail comments to: Cindy Bladey, Office of Administration, Mail Stop: OWFN-12-H08, U.S. Nuclear Regulatory Commission, Washington, DC 20555-0001.

For additional direction on obtaining information and submitting comments, see “Obtaining Information and Submitting Comments” in the SUPPLEMENTARY INFORMATION section of this document.

FOR FURTHER INFORMATION CONTACT: Lynn M. Ronewicz, Office of Nuclear Reactor Regulation, U.S. Nuclear Regulatory Commission, Washington, DC 20555-0001; telephone: 301-415-1927, email: Lynn.Ronewicz@nrc.gov.

SUPPLEMENTARY INFORMATION:

I. Obtaining Information and Submitting Comments

A. Obtaining Information

Please refer to Docket ID NRC-2015-0261 when contacting the NRC about the availability of information for this action. You may obtain publicly-available information related to this action by any of the following methods:

• Federal Rulemaking Web site: Go to http://www.regulations.gov and search for Docket ID NRC-2015-0261.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section

• NRC's PDR: You may examine and purchase copies of public documents at the NRC's PDR, Room O1-F21, One White Flint North, 11555 Rockville Pike, Rockville, Maryland 20852.

B. Submitting Comments

Please include Docket ID NRC-2015-0261, facility name, unit number(s), application date, and subject in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Notice of Consideration of Issuance of Amendments to Facility Operating Licenses and Combined Licenses and Proposed No Significant Hazards Consideration Determination

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated, or (2) create the possibility of a new or different kind of accident from any accident previously evaluated, or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

A. Opportunity To Request a Hearing and Petition for Leave To Intervene

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR part 2. Interested person(s) should consult a current copy of 10 CFR 2.309, which is available at the NRC's PDR, located at One White Flint North, Room O1-F21, 11555 Rockville Pike (first floor), Rockville, Maryland 20852. The NRC's regulations are accessible electronically from the NRC Library on the NRC's Web site at http://www.nrc.gov/reading-rm/doc-collections/cfr/. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing with respect to resolution of that person's admitted contentions, including the opportunity to present evidence and to submit a cross-examination plan for cross-examination of witnesses, consistent with NRC's regulations, policies and procedures.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment unless the Commission finds an imminent danger to the health or safety of the public, in which case it will issue an appropriate order or rule under 10 CFR part 2.

A State, local governmental body, federally-recognized Indian tribe, or agency thereof, may submit a petition to the Commission to participate as a party under 10 CFR 2.309(h)(1). The petition should state the nature and extent of the petitioner's interest in the proceeding. The petition should be submitted to the Commission by December 28, 2015. The petition must be filed in accordance with the filing instructions in the “Electronic Submissions (E-Filing)” section of this document, and should meet the requirements for petitions for leave to intervene set forth in this section, except that under § 2.309(h)(2) a State, local governmental body, or Federally-recognized Indian tribe, or agency thereof does not need to address the standing requirements in 10 CFR 2.309(d) if the facility is located within its boundaries. A State, local governmental body, Federally-recognized Indian tribe, or agency thereof may also have the opportunity to participate under 10 CFR 2.315(c).

If a hearing is granted, any person who does not wish, or is not qualified, to become a party to the proceeding may, in the discretion of the presiding officer, be permitted to make a limited appearance pursuant to the provisions of 10 CFR 2.315(a). A person making a limited appearance may make an oral or written statement of position on the issues, but may not otherwise participate in the proceeding. A limited appearance may be made at any session of the hearing or at any prehearing conference, subject to the limits and conditions as may be imposed by the presiding officer. Persons desiring to make a limited appearance are requested to inform the Secretary of the Commission by January 25, 2016.

B. Electronic Submissions (E-Filing)

All documents filed in NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/getting-started.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the NRC's adjudicatory E-Filing system may seek assistance by contacting the NRC Meta System Help Desk through the “Contact Us” link located on the NRC's public Web site at http://www.nrc.gov/site-help/e-submittals.html, by email to MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, in some instances, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to these license amendment applications, see the application for amendment which is available for public inspection in ADAMS and at the NRC's PDR. For additional direction on accessing information related to this document, see the “Obtaining Information and Submitting Comments” section of this document.

Dominion Nuclear Connecticut, Inc., Docket No. 50-423, Millstone Power Station, Unit No. 3 (MPS3), New London County, Connecticut

Date of amendment request: August 31, 2015. A publicly-available version is in ADAMS under Accession No. ML15246A118.

Description of amendment request: The amendment would modify the MPS3 Technical Specification (TS) 5.6.3, to specify the spent fuel pool storage (SFP) capacity limit in terms of the total number of fuel assemblies. Specifically, the description of the MPS3 SFP storage capacity would be revised to remove the word “available” from TS 5.6.3 and specify a storage capacity limit of 1860 fuel assemblies.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment does not represent any physical change to plant systems, structures, or components (SSC), or to procedures established for plant operation. The proposed amendment would not increase the likelihood of a malfunction of any plant SSC. Therefore, initial conditions associated with, and systems credited for mitigating the consequences of accidents previously evaluated remain unchanged.

Therefore, the proposed amendment does not involve a significant increase in the probability or the consequences of an accident previously evaluated.

2. Does the proposed amendment create the possibility of a new or different kind of accident from any previously evaluated?

Response: No.

The proposed amendment does not involve a physical alteration of the plant. No new or different types of equipment will be installed and there are no physical modifications to existing equipment associated with the proposed amendment. Similarly, the proposed amendment would not physically change any plant systems, structures, or components involved in the mitigation or any postulated accidents. Thus, no new initiators or precursors of a new or different kind of accident are created. Furthermore, the proposed amendment does not create the possibility of a new failure mode associated with any equipment or personnel failures.

Therefore, the proposed amendment would not create the possibility of a new or different kind of accident from any previously evaluated.

3. Does the proposed amendment involve a significant reduction in a margin of safety?

Response: No.

The proposed amendment does not represent any physical change to plant systems, structures, or components, or to procedures established for plant operation. The proposed amendment does not affect the inputs or assumptions of any of the design basis analyses and current design limits will continue to be met. The proposed amendment does not alter or create a new mode of plant operation or configuration. Margins of safety are not significantly reduced.

Therefore, operation of the facility in accordance with the proposed change to TS 5.6.3 does not involve a significant reduction in the margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: Travis L. Tate.

DTE Electric Company, Docket No. 50-341, Fermi 2, Monroe County, Michigan

Date of amendment request: September 24, 2015. A publicly-available version is in ADAMS under Accession No. ML15268A422.

Description of amendment request: The amendment would delete the note associated with Surveillance Requirement (SR) 3.5.1.4 to reflect the Residual Heat Removal (RHR) system design and ensure the RHR system operation is consistent with technical specification (TS) 3.5.1 Limiting Condition for Operation requirements.

Basis for proposed no significant hazards consideration determination: As required by 10 CFR 50.91(a), the licensee has provided its analysis of the issue of no significant hazards consideration, which is presented below:

1. Does the proposed amendment involve a significant increase in the probability or consequences of an accident previously evaluated?

Response: No.

No physical changes to the facility will occur as a result of this proposed amendment. The proposed change will not alter the physical design. The current TS SR note could make Fermi 2 susceptible to potential water hammer in the RHR system if a subsystem is operating in the shutdown cooling mode of RHR in Mode 3 and is required to swap from the shutdown cooling to LPCI [low pressure coolant injection] mode of RHR. The proposed LAR will eliminate the risk for cavitation of the pump and voiding in the suction piping, thereby avoiding potential to damage the RHR system, including water hammer.

Therefore, the proposed change does not involve a significant increase in the probability or consequences of an accident previously evaluated.

2. Does the proposed amendment create the possibility of a new or different kind of accident from any accident previously evaluated?

Response: No.

The proposed change does not alter the physical design, safety limits, or safety analysis assumptions associated with the operation of the plant. Accordingly, the change does not introduce any new accident initiators, nor does it reduce or adversely affect the capabilities of any plant structure, system, or component to perform their safety function. Deletion of the TS SR note is appropriate because current TS could put the plant at risk for potential cavitation of the pump and voiding in the suction piping, resulting in potential occurrence of water hammer and damage the RHR system.

Therefore, the proposed change does not create the possibility of a new or different kind of accident from any previously evaluated.

3. Does the proposed amendment involve a significant reduction in a margin of safety?

Response: No.

The proposed change conforms to NRC regulatory guidance regarding the content of plant technical specifications. The proposed change does not alter the physical design, safety limits, or safety analysis assumptions associated with the operation of the plant.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jon P. Christinidis, DTE Energy, Expert Attorney—Regulatory, 688 WCB, One Energy Plaza, Detroit, MI 48226.

NRC Branch Chief: David L. Pelton.

Duke Energy Carolinas, LLC, Docket Nos. 50-413 and 50-414, Catawba Nuclear Station (CNS), Units 1 and 2, York County, South Carolina; and Docket Nos. 50-369 and 50-370, McGuire Nuclear Station (MNS), Units 1 and 2, Mecklenburg County, North Carolina

Date of amendment request: August 20, 2015. A publicly-available version is available at ADAMS Accession No. ML15295A016.

Description of amendment request: The proposed amendments would revise the Technical Specifications (TSs) to allow the use of Optimized Zirlo™. Specifically, the proposed change would modify TS 4.2.1 to add Optimized Zirlo™ as an allowable cladding and TS 5.6.5.b to add associated methodologies for determining the core operating limits report.

Basis for proposed no significant hazards consideration determination: As required by 10 CFR 50.91(a), the licensee has provided its analysis of the issue of no significant hazards consideration, which is presented below:

1. Does the proposed change involve a significant increase in the probability or consequences of an accident previously evaluated?

Response: No.

The proposed TS changes add flexibility in the selection of fuel rod cladding materials for use at CNS and MNS. The proposed change of adding a cladding material does not result in an increase to the probability or consequences of an accident previously evaluated. TS 4.2.1 addresses the fuel assembly design, and currently specifies that “Each assembly shall consist of a matrix of either ZIRLO® or Zircaloy fuel rods . . .”. The proposed change will add Optimized ZIRLO™ to the approved fuel rod cladding materials listed in this TS. In addition, a reference to the Westinghouse VANTAGE+ fuel assembly core reference report, WCAP-12610-P-A, and the topical report for Optimized ZIRLO™, WCAP-12610-P-A and CENPD-404-P-A, Addendum 1-A, will be included in the listing of approved methods used to determine the core operating limits for CNS and MNS given in TS 5.6.5.b. Westinghouse topical report WCAP-12610-P-A and CENPD-404-P-A, Addendum 1-A, Optimized ZIRLO™, provides the details and results of material testing of Optimized ZIRLO™ compared to standard ZIRLO®, as well as the material properties to be used in various models and methodologies when analyzing Optimized ZIRLO™. As the nuclear industry pursues longer operating cycles with increased fuel discharge burnup and fuel duty, the corrosion performance requirements for the nuclear fuel cladding become more demanding. Optimized ZIRLO™ was developed to meet these industry needs by providing a reduced corrosion rate while maintaining the composition and physical properties, such as mechanical strength, similar to standard ZIRLO®. Fuel rod internal pressure has also become more limiting due to changes such as increased fuel duty and use of integral fuel burnable absorbers. Reducing the associated corrosion buildup by using Optimized ZIRLO™ in turn reduces temperature feedback effects, providing additional margin to the fuel rod internal pressure design criterion. Fuel with Optimized ZIRLO™ cladding will continue to satisfy the pertinent design basis operating limits, so cladding integrity is maintained. There are no changes that will adversely affect the ability of existing components and systems to mitigate the consequences of any accident. Therefore, addition of Optimized ZIRLO™ to the allowable cladding materials for CNS and MNS does not result in an increase in the probability or consequences of an accident previously evaluated.

The NRC has previously approved use of Optimized ZIRLO™ fuel cladding material in Westinghouse fueled reactors provided that licensees ensure compliance with the Conditions and Limitations set forth in the NRC Safety Evaluation for the topical report. Confirmation that these Conditions are satisfied is performed as part of the normal core reload process.

Therefore, the proposed change does not involve a significant increase in the probability or consequences of an accident previously evaluated.

2. Does the proposed change create the possibility of a new or different kind of accident from any accident previously evaluated?

Response: No.

The proposed TS changes add flexibility in the selection of fuel rod cladding materials for use at CNS and MNS. Optimized ZIRLO™ was developed to provide a reduced cladding corrosion rate while maintaining the benefits of mechanical strength and resistance to accelerated corrosion from potential abnormal chemistry conditions. The fuel rod design bases are established to satisfy the general and specific safety criteria addressed in the CNS and MNS [Updated Final Safety Analysis Report] UFSAR, Chapter 15 (Accident Analyses). The fuel rods are designed to prevent excessive fuel temperatures, excessive fuel rod internal gas pressures due to fission gas releases, and excessive cladding stresses and strains. Westinghouse topical report WCAP-12610-P-A and CENPD-404-P-A, Addendum 1-A, Optimized ZIRLO™, provides the details and results of material testing of Optimized ZIRLO™ compared to standard ZIRLO®, as well as the material properties to be used in various models and methodologies when analyzing Optimized ZIRLO™. The original fuel design basis requirements have been maintained. No new single failure mechanisms will be created, and there are no alterations to plant equipment or procedures that would introduce any new or unique operational modes or accident precursors. Therefore, addition of another approved cladding material of similar composition and properties as the current approved cladding materials to the CNS and MNS TS does not create the possibility of a new or different kind of accident or malfunction from those previously evaluated within the UFSAR.

3. Does the proposed change involve a significant reduction in the margin of safety?

Response: No.

The proposed change will not involve a significant reduction in the margin of safety because it has been demonstrated that the material properties of the Optimized ZIRLO™ are not significantly different from those of standard ZIRLO®. Optimized ZIRLO™ is expected to perform similarly to standard ZIRLO® for all normal operating and accident scenarios, including both loss of coolant accident (LOCA) and non-LOCA scenarios. For LOCA scenarios, where the slight difference in Optimized ZIRLO™ material properties relative to standard ZIRLO® could have some impact on the overall accident scenario, plant-specific LOCA analyses using Optimized ZIRLO™ properties demonstrates that the acceptance criteria of 10 CFR 50.46 has been satisfied, therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

Florida Power & Light Company, et al., Docket Nos. 50-335 and 50-389, St. Lucie Plant, Units Nos. 1 and 2, St. Lucie County, Florida

Date of amendment request: July 15, 2015. A publicly-available version is in ADAMS under Accession No. ML15198A028.

Description of amendment request: The amendments would revise Technical Specifications required actions for inoperability of auxiliary feedwater pumps.

Basis for proposed no significant hazards consideration determination: As required by 10 CFR 50.91(a), the licensee has provided its analysis of the issue of no significant hazards consideration, which is presented below:

1. Does the proposed change involve a significant increase in the probability or consequences of an accident previously evaluated?

The proposed change will not result in any significant increase in the probability or consequences of an accident previously evaluated. The auxiliary feedwater system mitigates the consequences of any event with a loss of normal feedwater. By prohibiting a plant maneuver when there are no operable auxiliary feedwater pumps, the plant will not be placed into a less safe condition where the probability could be increased, consequences could be exacerbated, or different consequences could result for an accident previously evaluated.

The proposed enhancements and administrative changes are modifications to existing actions that have no potential to impact the probability or consequences of an accident previously evaluated.

2. Does the proposed change create the possibility of a new or different kind of accident from any accident previously evaluated?

The proposed change does not involve physical modification of the plant. No new or different type of equipment will be installed. The proposed change will require prompt action to restore at least one auxiliary feedwater pump to operable status when all three are inoperable. Restricting a power maneuver until at least one auxiliary feedwater pump has been restored to operable status will preclude entry into a less safe condition with no auxiliary feedwater available for accident mitigation. This change will not have an adverse effect on equipment required for accident mitigation.

The proposed enhancements and administrative changes are modifications to existing actions that have no potential to impact equipment required for accident mitigation.

3. Does the proposed change involve a significant reduction in a margin of safety?

The proposed change does not involve a significant reduction in a margin of safety. No plant equipment or accident analyses will be affected. Additionally, the proposed change will not relax any criteria used to establish safety limits, safety system settings, or the bases for any limiting conditions for operation. Safety analysis acceptance criteria are not affected. Plant operation will continue within the design basis.

The NRC staff has reviewed the licensee's analysis and, based on this review, it appears that the three standards of 50.92(c) are satisfied. Therefore, the NRC staff proposes to determine that the amendment request involves no significant hazards consideration.

Attorney for licensee: William S. Blair, Managing Attorney—Nuclear, Florida Power & Light, 700 Universe Blvd., MS LAW/JB, Juno Beach, FL 33408-0420.

NRC Branch Chief: Shana R. Helton.

Florida Power & Light Company, et al., Docket Nos. 50-335 and 50-389, St. Lucie Plant, Unit Nos. 1 and 2, St. Lucie County, Florida

Date of amendment request: August 31, 2015. A publicly-available version is in ADAMS under Accession No. ML15254A180.

Description of amendment request: The amendments would modify Technical Specifications to risk-inform requirements regarding selected Required Action End States. Minor variations or deviations are included in the request, but the proposed amendments are otherwise consistent with NRC-approved Technical Specification Task Force (TSTF) Traveler TSTF-422, Revision 2, “Change in Technical Specifications End States (CE NPSD-1186),” dated December 22, 2009 (ADAMS Accession No. ML093570241) (76 FR 19510, April 7, 2011).

Basis for proposed no significant hazards consideration determination: As required by 10 CFR 50.91(a), the licensee has provided its analysis of the issue of no significant hazards consideration, which is presented below:

1. Does the proposed change involve a significant increase in the probability or consequences of an accident previously evaluated?

Response: No.

The proposed change allows a change to certain required end states when the Technical Specification (TS) Completion Times (CTs) for remaining in power operation are exceeded. Most of the requested TS changes are to permit an end state of hot shutdown (Mode 4) rather than an end state of cold shutdown (Mode 5) contained in the current TS. The request was limited to: (1) Those end states where entry into the shutdown mode is for a short interval, (2) entry is initiated by inoperability of a single train of equipment or a restriction on a plant operational parameter, unless otherwise stated in the applicable TS, and (3) the primary purpose is to correct the initiating condition and return to power operation a [as] soon as is practical. Risk insights from both the qualitative and quantitative risk assessments were used in specific TS assessments. Such assessments are documented in Section 5.5 of CE NIPSD-1186, Rev 0, “Technical Justification for the Risk-Informed Modification to Selected Required Action End States for CEOG [Combustion Engineering Owners Group] Member PWRs [Pressurized Water Reactors].” They provide an integrated discussion of deterministic and probabilistic issues, focusing on specific TSs, which are used to support the proposed TS end state and associated restrictions. Therefore, the probability of an accident previously evaluated is not significantly increased, if at all. The consequences of an accident after adopting proposed TSTF-422 are no different than the consequences of an accident prior to adopting TSTF-422. Therefore, the consequences of an accident previously evaluated are not significantly affected by this change. The addition of a requirement to assess and manage the risk introduced by this change will further minimize possible concerns.

Therefore, this change does not involve a significant increase in the probability or consequences of an accident previously evaluated.

2. Does the proposed change create the possibility of a new or different kind of accident from any accident previously evaluated?

Response: No.

The proposed change does not involve a physical alteration of the plant (no new or different type of equipment will be installed). Allowing a change to certain required end states when the TS CTs for remaining in power operation are exceeded, i.e., entry into hot shutdown rather than cold shutdown to repair equipment, if risk is assessed and managed, will not introduce new failure modes or effects and will not, in the absence of other unrelated failures, lead to an accident whose consequences exceed the consequences of accidents previously evaluated. The addition of a requirement to assess and manage the risk introduced by this change and the commitment by the licensee to adhere to the guidance in WCAP-16364-NP, Revision 2, “Implementation Guidance for Risk Informed Modification to Selected Required Action End States at combustion Engineering NSSS [Nuclear Steam Supply System] Plants (TSTF-422),” will further minimize possible concerns.

Therefore, this change does not create the possibility of a new or different kind of accident from an accident previously evaluated.

3. Does the proposed change involve a significant reduction in a margin of safety?

Response: No.

The proposed change allows, for some systems, entry into hot shutdown rather than cold shutdown to repair equipment, if risk is assessed and managed. The CEOG's [Combustion Engineering Owners Group] risk assessment approach is comprehensive and follows NRC staff guidance as documented in Regulatory Guides (RGs) 1.174 and 1.177. In addition, the analyses show that the criteria of the three-tiered approach for allowing TS changes are met. The risk impact of the proposed TS changes was assessed following the three-tiered approach recommended in RG 1.177. A risk assessment was performed to justify the proposed TS changes. The net change to the margin of safety is insignificant.

Therefore, this change does not involve a significant reduction in a margin of safety.

The NRC staff has reviewed the licensee's analysis and, based on this review, it appears that the three standards of 50.92(c) are satisfied. Therefore, the NRC staff proposes to determine that the amendment request involves no significant hazards consideration.

Attorney for licensee: William S. Blair, Managing Attorney—Nuclear, Florida Power & Light Company, 700 Universe Boulevard, MS LAW/JB, Juno Beach, FL 33408-0420.

NRC Branch Chief: Benjamin G. Beasley.

Omaha Public Power District, Docket No. 50-285, Fort Calhoun Station (FCS), Unit No. 1, Washington County, Nebraska

Date of amendment request: September 10, 2015. A publicly-available version is in ADAMS under Accession No. ML15258A680.

Description of amendment request: The amendment would revise the Updated Safety Analysis Report (USAR) to allow the use of the equipment classification methodology in industry standard American National Standards Institute/American Nuclear Society (ANSI/ANS)-58.14-2011, “Safety and Pressure Integrity Classification Criteria for Light Water Reactors.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change to the Updated Safety Analysis Report (USAR) allows the use of the methodology from ANSI/ANS-58.14-2011, Safety and Pressure Integrity Classification Criteria for Light Water Reactors, for the classification of structures, systems and components (SSCs) in accordance with the Current Licensing Basis (CLB). These changes are applicable only to the classification of equipment and have no impact on the accidents and transients as defined in the Current Licensing Basis. The methodology of the standard requires that the plant design basis be reviewed and applied to the classification process which assures that there is no significant change in the probability or consequences of accidents.

The USAR accident analyses assume the proper functioning of systems in demonstrating the adequacy of the plant's design. The methodology of ANSI/ANS-58.14-2011 is intended to assure equipment is classified correctly and in accordance with the CLB. This change, therefore, does not change the intended function of any plant equipment nor does this change affect or increase the probability of equipment malfunction which could increase the probability or consequences of an accident previously evaluated in the USAR.

The proposed change does not degrade the performance of a system assumed to function in the accident analyses. Also, this change does not increase the challenges to safety systems assumed to function in the accident analysis such that safety system performance is degraded below the design basis without compensating effects.

FCS is licensed to the requirements of 10 CFR 50.67 and 10 CFR 20. These licensed limits are maintained by radiological barrier performance which is unaffected by this change. Hence, there will be no change in radiological barrier performance that would increase the dose to on-site personnel (10 CFR 20) or the public at the site boundary (10 CFR 100.11/10 CFR 50.67).

Therefore, the proposed change does not involve a significant increase in the probability or consequences of an accident previously evaluated in the USAR.

2. Does the proposed amendment create the possibility of a new or different kind of accident from any accident previously evaluated?

Response: No.

The proposed amendment allows the use of the NRC approved methodology of ANSI/ANS-58.14-2011 to facilitate proper equipment classification. This standard will be used to confirm that equipment has been properly classified in accordance with the FCS Current Licensing Basis. This approach will not introduce any methods or analytical techniques that could create the possibility of a new or different kind of accident. Application of a classification methodology does not create an accident.

No new unanalyzed interactions between systems or components will be created by the application of ANSI/ANS-58.14-2011. The proposed change does not create a new failure mechanism or new accident initiator. The proposed amendment does not involve a change in methods governing the operation of the plant systems or components.

Therefore, the proposed change does not create the possibility of a new or different kind of accident from any accident previously evaluated in the USAR.

3. Does the proposed amendment involve a significant reduction in a margin of safety?

Response: No.

This proposed amendment revises the CLB to allow the use of ANSI/ANS-58.14-2011 for equipment classification. The proposed change will not modify, change, revise or otherwise affect any current calculations concerning the plant accident analysis or supporting basis for which the Technical Specifications, Technical Specification Bases or USAR safety margins were established. The proposed amendment is consistent with regulatory guidance.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Omaha Public Power District, Docket No. 50-285, Fort Calhoun Station, Unit No. 1, Washington County, Nebraska

Date of amendment request: September 11, 2015. A publicly-available version is in ADAMS under Accession No. ML15254A464.

Description of amendment request: The amendment would revise Technical Specification (TS) 2.7, “Electrical Systems,” to replace the numerical volume requirements for stored diesel fuel and lubricating oil inventory with requirements that state that volumes equivalent to 7 days and 6 days of fuel oil are available. The licensee proposes to remove the numerical fuel oil volume requirements from TS 2.7(1)m and TS 2.7(3)a and substitute an equivalent requirement for 7 days and 6 days of fuel; revise the value of the required fuel inventory in storage tank FO-10; remove the numerical lubricating oil volume requirements from TS 2.7(1)n and TS 2.7(3)b and replace them with equivalent 7-day and 6-day requirements; and add a minimum inventory for fuel and lubricating oil to TS 3.2, Table 3-5, Surveillance Requirements 9a and 9b, respectively. The licensee proposes to move the numerical volumes equivalent to 7-day and 6-day supplies to the TS Bases. The proposal removes the current numerical volume requirements for stored fuel from the TS and places the corrected value in the TS Bases and moves the associated current 7-day basis from the TS Bases to the TS. The proposed changes are generally consistent with Technical Specification Task Force (TSTF) Traveler TSTF-501, Revision 1, “Relocate Stored Fuel Oil and Lube Oil Volume Values to Licensee Control,” but include plant-specific variances.

Basis for proposed no significant hazards consideration determination: As required by 10 CFR 50.91(a), the licensee has provided its analysis of the issue of no significant hazards consideration, which is presented below:

1. Does the proposed change involve a significant increase in the probability or consequences of an accident previously evaluated?

Response: No.

The proposed change places the numerical volume of diesel fuel oil and lube oil required to support seven-day operation of the onsite DGs [diesel generators], and the numerical volume equivalent to a six-day supply, in the TS Bases under licensee control. The required volumes of fuel oil equivalent to a seven-day and six-day supply is calculated considering the DG manufacturer's fuel oil consumption rates and worst DG loading resulting from a loss of offsite power coincident with a design basis accident. The numerical volume of lube oil equivalent to a seven-day and six-day supply is based on the DG manufacturer's consumption values for the run time of the DG. The requirement to meet Updated Safety Analysis Report (USAR) diesel loading assumptions, maintain a seven-day supply, and the actions taken when the volume of fuel oil available is less than a seven-day or a six-day supply have not changed. These requirements remain consistent with the assumptions in the accident analyses, and neither the probability nor the consequences of any accident previously evaluated will be affected by the proposed change.

Therefore, the proposed changes do not involve a significant increase in the probability or consequences of an accident previously evaluated.

2. Does the proposed change create the possibility of a new or different kind of accident from any accident previously evaluated?

Response: No.

The change does not involve a physical alteration of the plant (i.e., no new or different type of equipment will be installed) or a change in the methods governing normal plant operation. The change does not alter assumptions made in the safety analysis but ensures that diesel generator loads operate as assumed in the accident analysis. The proposed change is consistent with the safety analysis assumptions.

Therefore, the proposed change does not create the possibility of a new or different kind of accident from any accident previously evaluated.

3. Does the proposed change involve a significant reduction in a margin of safety?

Response: No.

The proposed change places the numerical volume of diesel fuel oil and lubricating oil required to support 7-day operation of an onsite diesel generator, and the numerical volume equivalent to a 6-day supply, in the TS Bases under licensee control. As the basis for the existing limits on diesel fuel oil, and lubricating oil are unchanged, no change is made to the accident analysis assumptions and no margin of safety is reduced as a result of this change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Omaha Public Power District, Docket No. 50-285, Fort Calhoun Station, Unit No. 1, Washington County, Nebraska

Date of amendment request: September 11, 2015. A publicly-available version is in ADAMS under Accession No. ML15254A445.

Description of amendment request: The amendment would revise Technical Specification requirements to adopt the changes described in Technical Specification Task Force (TSTF) Traveler-TSTF-426, Revision 5, “Revise or Add Actions to Preclude Entry into LCO [Limiting Condition for Operation] 3.0.3—RITSTF [Risk-Informed TSTF] Initiatives 6b & 6c.”

Basis for proposed no significant hazards consideration determination: As required by 10 CFR 50.91(a), the licensee has provided its analysis of the issue of no significant hazards consideration, which is presented below:

1. Does the proposed amendment involve a significant increase in the probability or consequences of an accident previously evaluated?

Response: No.

The proposed change provides a short Completion Time to restore an inoperable system for conditions under which the existing Technical Specifications require a plant shutdown to begin within one hour in accordance with Limiting Condition for Operation (LCO) 2.0.1. Entering into Technical Specification Actions is not an initiator of any accident previously evaluated. As a result, the probability of an accident previously evaluated is not significantly increased. The consequences of any accident previously evaluated that may occur during the proposed Completion Times are no different from the consequences of the same accident during the existing one hour allowance. As a result, the consequences of any accident previously evaluated are not significantly increased.

Therefore, the proposed changes do not involve a significant increase in the probability or consequences of an accident previously evaluated.

2. Does the proposed amendment create the possibility of a new or different kind of accident from any accident previously evaluated?

Response: No.

No new or different accidents result from utilizing the proposed change. The changes do not involve a physical alteration of the plant (i.e., no new or different type of equipment will be installed) or a change in the methods governing normal plant operation. In addition, the changes do not impose any new or different requirements. The changes do not alter assumptions made in the safety analysis.

Therefore, the proposed changes do not create the possibility of a new or different kind of accident from any previously evaluated.

3. Does the proposed amendment involve a significant reduction in a margin of safety?

Response: No.

The proposed change increase[s] the time the plant may operate without the ability to perform an assumed safety function. The analyses in [Westinghouse Electric Company LLC technical report] WCAP-16125-NP-A, “Justification for Risk-Informed Modifications to Selected Technical Specifications for Conditions Leading to Exigent [P]lant Shutdown,” Revision 2, August 2010 [(ADAMS Accession No. ML110070500)], demonstrated that there is an acceptably small increase in risk due to a limited period of continued operation in these conditions and that this risk is balanced by avoiding the risks associated with a plant shutdown. As a result, the change to the margin of safety provided by requiring a plant shutdown within one hour is not significant.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Southern Nuclear Operating Company, Inc., Docket Nos. 50-321 and 50-366, Hatch Nuclear Plant, Units 1 and 2, Appling County, Georgia

Date of amendment request: October 15, 2015. A publicly-available version is in ADAMS under Accession No. ML15288A528.

Description of amendment request: The proposed amendment would revise Technical Specification (TS) Surveillance Requirements (SR) to increase the allowable time for the Standby Gas Treatment System to draw down the secondary containment to negative pressure from 2 minutes to 10 minutes.

Basis for proposed no significant hazards consideration determination: As required by 10 CFR 50.91(a), Southern Nuclear Operating Company has provided its analysis of the issue of no significant hazards consideration as stated below:

1. Does the proposed amendment involve a significant increase in the probability or consequences of any accident previously evaluated?

Response: No.

This amendment proposes to increase the post-accident drawdown time for the secondary containment from its current value of 120 seconds, to 10 minutes. No physical modifications are proposed for any system, structure, or component (SSC) designed for the prevention of previously analyzed events. Neither does this amendment request change the operation or maintenance of any of those SSCs; accordingly the amendment does not involve a significant increase in the probability of occurrence of a previously evaluated event.

The increase in the drawdown time does not result in a significant increase in the consequences of a previously analyzed accident because the offsite doses, the main control room dose, and the technical support center dose do not significantly increase. As described in the Technical Evaluation section of this amendment request, the off-site doses for the Low Population Zone (LPZ) and the Exclusion Area Boundary (EAB) increase from 0.75 and 0.34 Rem [Total Effective Dose Equivalent (TEDE)] to 1.10 and 0.61 Rem TEDE, respectively. However, this is still well within the 10 CFR 50.67 limits of 25 Rem for the LPZ and EAB. Regarding the [main control room (MCR)], the increase in drawdown time has very little effect on dose to the MCR operators. Since the HNP MCR is located within the turbine building, MCR doses are due primarily to [main steam isolation valve (MSIV)] leakage which goes to the main condenser and subsequently leaks into the turbine building. Finally, the dose to the [Technical Support Center (TSC)] decreased from 3.9 Rem TEDE to 3.1 Rem TEDE. This is due to the reduction in the assumed unfiltered in-leakage to the TSC. Currently, 10,000 cfm is assumed for the TSC leakage. The new calculation assumed a more realistic value of 1000 cfm.

Therefore, the change in the drawdown time does not represent a significant increase in the consequences of a previously analyzed event.

2. Does the proposed amendment create the possibility of a new or different kind of accident from any previously evaluated?

Response: No.

This Technical Specifications revision request increases the allowed time given the [Standby Gas Treatment System (SGTS)] to drawdown the secondary containment to 0.20 inches of water vacuum from 120 seconds to 10 minutes. No physical modifications are being made to the secondary containment system or to the SGTS as a result of this Tech Spec amendment request. Additionally, other than the increase in the allowed drawdown time to 10 minutes, no changes are being made to the function or operation of the secondary containment. Therefore, its design function of containing fission products released after design basis accidents, such as [loss of coolant accident] LOCA, remains unchanged. Likewise, no changes are being proposed to the function or operation of the SGTS. It remains capable of adequately accomplishing its design function of processing the post accident atmosphere in the secondary containment.

Since no new modes of operation are created, no new accident initiators are created by this amendment request.

3. Does the proposed amendment involve a significant reduction in a margin of safety?

Response: No.

Margins are applied at several levels with respect to the secondary containment safety function and to other functions intended to reduce off-site and on-site dose consequences. One is the control room unfiltered in-leakage rate, which is reduced from 115 cfm to 39 cfm for this analysis. However, results for the last MCR in-leakage test were actually far below 39 cfm. In fact, the in-leakage rate tests for the pressurization mode of the Main Control Room Environmental Control system, performed in April of 2015, indicated rates between 8 and 12 scfm, roughly one third of the assumed in-leakage value. Therefore, although the margin was reduced, a significant amount of margin remains. In-leakage to the Technical Support Center was assumed at 1000 cfm for this calculation. Currently, 10,000 cfm is the assumed in-leakage. Therefore margin is reduced with respect to this parameter. However, 10,000 cfm is an extremely high, unrealistic value. The 1000 cfm in-leakage assumed for this calculation is a reasonable and justifiable value, in fact equal to twice the filtered intake rate. The MSIV leakage rate is assumed at the TS value of 100 scfh, unchanged from the current analysis. As mentioned in the Technical Evaluation section of this submittal, the Volume Correction Factor (VCF) which is a parameter representing control room dose immersion, is assumed at 0.47 as opposed to the current evaluation which assumes a VCF of 0.50. The actual number is, in fact, 0.47, but was previously rounded up conservatively. Therefore, this margin is being eliminated in the current calculation. However, this does not represent a significant reduction in the margin of safety because margin exists in other areas, namely the Control Room in-leakage, TSC in-leakage, and Main Steam Isolation Valve leakage, as discussed above. As described in the Technical Evaluation portion of this submittal, the margins to the 10 CFR 50.67 main control room and offsite dose limits are not significantly reduced. The total MCR doses are virtually unchanged. The off-site doses do increase, but the resultant doses are still a small fraction (< 5%) of the regulatory limit of 25 Rem to the Low Population Zone and 25 Rem to the Exclusion Area Boundary. The doses to the TSC actually decrease from those of the current analysis; the decrease is due to the reduced in-leakage assumption, as previously mentioned.

For all the reasons provided above, this amendment does not represent a significant reduction in a margin of safety.

The NRC staff has reviewed the licensee's analysis and, based on this review, it appears that the three standards of 10 CFR 50.92(c) are satisfied. Therefore, the NRC staff proposes to determine that the amendment request involves no significant hazards consideration.

Attorney for licensee: Jennifer M. Buettner, Associate General Counsel, Southern Nuclear Operating Company, 40 Inverness Center Parkway, Birmingham, AL 35201.

NRC Branch Chief: Robert J. Pascarelli.

South Carolina Electric and Gas Company, Docket Nos. 52-027 and 52-028, Virgil C. Summer Nuclear Station (VCSNS), Units 2 and 3, Fairfield County, South Carolina

Date of amendment request: October 1, 2015. A publicly-available version is in ADAMS under Accession No. ML15274A540.

Description of amendment request: The amendment request proposes to revise the VCSNS Units 2 and 3 plant-specific emergency planning inspections, tests, analyses, and acceptance criteria (ITAAC) in Appendix C of the VCSNS Units 2 and 3 COLs. Changes to the plant-specific emergency planning ITAAC are proposed to remove the copies of Design Control Document (DCD) Table 7.5-1, “Post-Accident Monitoring System,” and Final Safety Analysis Report (FSAR) Table 7.5-201, “Post-Accident Monitoring System,” and to replace the references to DCD Table 7.5-1 and FSAR Table 7.5-201 with Updated Final Safety Analysis Report (UFSAR) Table 7.5-1 in Table C.3.8-1 for ITAAC Numbers C.3.8.01.01.01, C.3.8.01.05.01.05, and C.3.8.01.05.02.04.

Basis for proposed no significant hazards consideration determination: As required by 10 CFR 50.91(a), the licensee has provided its analysis of the issue of no significant hazards consideration, which is presented below:

1. Does the proposed amendment involve a significant increase in the probability or consequences of an accident previously evaluated?

Response: No.

The [Virgil C. Summer Nuclear Station] VCSNS Units 2 and 3 emergency planning inspections, tests, analyses, and acceptance criteria (ITAAC) provide assurance that the facility has been constructed and will be operated in conformity with the license, the provisions of the Act, and the Commission's rules and regulations. The proposed changes to remove the copies of [Design Control Document] DCD Table 7.5-1 and [Final Safety Analysis Report] FSAR Table 7.5-201 from Appendix C of the VCSNS Units 2 and 3 [combined license] COLs do not affect the design of a system, structure, or component (SSC) used to meet the design bases of the nuclear plant. Nor do the changes affect the construction or operation of the nuclear plant itself, so there is no change to the probability or consequences of an accident previously evaluated. Removing the copies of the tables from Appendix C of the COLs does not affect prevention and mitigation of abnormal events (e.g., accidents, anticipated operational occurrences, earthquakes, floods and turbine missiles) or their safety or design analyses. No safety-related SSC or function is adversely affected. The changes do not involve nor interface with any SSC accident initiator or initiating sequence of events, and thus, the probabilities of the accidents evaluated in the [Updated Final Safety Analysis Report] UFSAR are not affected. Because the changes do not involve any safety-related SSC or function used to mitigate an accident, the consequences of the accidents evaluated in the UFSAR are not affected.

Therefore, the proposed amendment does not involve a significant increase in the probability or consequences of an accident previously evaluated.

2. Does the proposed amendment create the possibility of a new or different kind of accident from any accident previously evaluated?

Response: No.

The VCSNS Units 2 and 3 emergency planning ITAAC provide assurance that the facility has been constructed and will be operated in conformity with the license, the provisions of the Act, and the Commission's rules and regulations. The changes do not affect the design of an SSC used to meet the design bases of the nuclear plant, nor do the changes affect the construction or operation of the nuclear plant. Consequently, there is no new or different kind of accident from any accident previously evaluated. The changes do not affect safety-related equipment, nor do they affect equipment which, if it failed, could initiate an accident or a failure of a fission product barrier. In addition, the changes do not result in a new failure mode, malfunction or sequence of events that could affect safety or safety-related equipment.

No analysis is adversely affected. No system or design function or equipment qualification is adversely affected by the changes. This activity will not allow for a new fission product release path, result in a new fission product barrier failure mode, nor create a new sequence of events that would result in significant fuel cladding failures.

Therefore, the proposed amendment does not create the possibility of a new or different kind of accident from any accident previously evaluated.

3. Does the proposed amendment involve a significant reduction in a margin of safety?

Response: No.

The VCSNS Units 2 and 3 emergency planning ITAAC provide assurance that the facility has been constructed and will be operated in conformity with the license, the provisions of the Act, and the Commission's rules and regulations. The changes do not affect the assessments or the plant itself. The changes do not adversely interface with safety-related equipment or fission product barriers. No safety analysis, design basis limit or acceptance criterion are challenged or exceeded by the proposed change.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

South Carolina Electric & Gas Company, South Carolina Public Service Authority, Docket No. 50-395, Virgil C. Summer Nuclear Station, Unit 1, Fairfield County, South Carolina

Date of amendment request: September 29, 2015. A publicly-available version is in ADAMS Accession No. ML15275A089.

Description of amendment request: The licensee proposes to revise the Technical Specifications to adopt Technical Specifications Task Force (TSTF)-523. “Generic Letter 2008-01, Managing Gas Accumulation.”

Basis for proposed no significant hazards consideration determination: As required by 10 CFR 50.91(a), the licensee has provided its analysis of the issue of no significant hazards consideration, which is presented below:

1. Does the proposed change involve a significant increase in the probability or consequences of an accident previously evaluated?

Response: No.

The proposed change revises or adds Surveillance Requirement(s) (SRs) that require verification that the Emergency Core Cooling System (ECCS), the Reactor Cooling System (RCS), Residual Heat Removal (RHR) and Reactor Building (RB) Spray System are not rendered inoperable due to accumulated gas and to provide allowances which permit performance of the revised verification. Gas accumulation in the subject systems is not an initiator of any accident previously evaluated. As a result, the probability of any accident previously evaluated is not significantly increased. The proposed SRs ensure that the subject systems continue to be capable to perform their assumed safety function and are not rendered inoperable due to gas accumulation. Thus, the consequences of any accident previously evaluated are not significantly increased.

Therefore, the proposed change does not involve a significant increase in the probability or consequences of an accident previously evaluated.

2. Does the proposed change create the possibility of a new or different kind of accident from any accident previously evaluated?

Response: No.

The proposed change revises or adds SRs that require verification that the ECCS, RCS, RHR and RB Spray System are not rendered inoperable due to accumulated gas and to provide allowances which permit performance of the revised verification. The proposed change does not involve a physical alteration of the plant (i.e., no new or different type of equipment will be installed) or a change in the methods governing normal plant operation. In addition, the proposed change does not impose any new or different requirements that could initiate an accident. The proposed change does not alter assumptions made in the safety analysis and is consistent with the safety analysis assumptions.

Therefore, the proposed change does not create the possibility of a new or different kind of accident from any accident previously evaluated.

3. Does the proposed change involve a significant reduction in a margin of safety?

Response: No.

The proposed change revises or adds SRs that require verification that the ECCS, RCS, RHR and RB Spray System are not rendered inoperable due to accumulated gas and to provide allowances which permit performance of the revised verification. The proposed change adds new requirements to manage gas accumulation in order to ensure the subject systems are capable of performing their assumed safety functions. The proposed SRs are more comprehensive than the current SRs and will ensure that the assumptions of the safety analysis are protected. The proposed change does not adversely affect any current plant safety margins or the reliability of the equipment assumed in the safety analysis. Therefore, there are no changes being made to any safety analysis assumptions, safety limits or limiting safety system settings that would adversely affect plant safety as a result of the proposed change.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Hagood Hamilton, Jr., South Carolina Electric & Gas Company, Post Office Box 764, Columbia, SC 29218.

NRC Branch Chief: Michael T. Markley.

South Carolina Electric and Gas Company, Docket Nos. 52-027 and 52-028, Virgil C. Summer Nuclear Station (VCSNS), Units 2 and 3, Fairfield County, South Carolina

Date of amendment request: October 22, 2015. A publicly-available version is in ADAMS under Accession No. ML15295A091.

Description of amendment request: The amendment request proposes to revise Section 5.0, “Administrative Controls,” of the VCSNS Units 2 and 3 COL, Appendix A, Technical Specifications, to change the title of “Shift Supervisor,” to “Shift Manager.”

Basis for proposed no significant hazards consideration determination: As required by 10 CFR 50.91(a), the licensee has provided its analysis of the issue of no significant hazards consideration, which is presented below:

1. Does the proposed amendment involve a significant increase in the probability or consequences of an accident previously evaluated?

Response: No.

The proposed changes to the Technical Specifications regarding the Shift Supervisor to Shift Manager title are administrative changes. It has no impact on accident initiators or plant equipment and thus does not affect the probability or consequences of an accident.

2. Does the proposed amendment create the possibility of a new or different kind of accident from any accident previously evaluated?

Response: No.

The proposed change does not involve a change to the design of the physical plant or operations. This is an administrative title change that does not contribute to accident initiation. Therefore, it does not produce a new accident scenario or produce a new type of equipment malfunction.

2. Does the proposed amendment involve a significant reduction in a margin of safety?

Response: No.

Since the change is administrative and changes no previously evaluated accidents or creates no possibility for any new unevaluated accidents to occur, there is no reduction in the margin of safety. This change also does not affect plant equipment or operation and therefore does not affect safety limits or limiting safety systems settings.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW., Washington, DC 20004-2514.

NRC Branch Chief: Lawrence J. Burkhart.

Wolf Creek Nuclear Operating Corporation, Docket No. 50-482, Wolf Creek Generating Station, Coffey County, Kansas

Date of amendment request: September 23, 2015. A publicly-available version is in ADAMS under Accession No. ML15273A156.

Description of amendment request: The amendment would revise the diesel generator (DG) full load rejection test and endurance and margin test specified by Technical Specification 3.8.1, “AC [Alternating Current] Sources—Operating,” Surveillance Requirements (SR) 3.8.1.10 and 3.8.1.14, respectively. The proposed change would add a new Note to SR 3.8.1.10 and SR 3.8.1.14, consistent with Technical Specification Task Force (TSTF) Traveler TSTF-276-A, Revision 2, “Revise DG full load rejection test.” The Note allows the full load rejection test and endurance and margin test be performed at the specified power factor (PF) with clarifications addressing situations when the power factor cannot be achieved.

Basis for proposed no significant hazards consideration determination: As required by 10 CFR 50.91(a), the licensee has provided its analysis of the issue of no significant hazards consideration, which is presented below:

1. Does the proposed change involve a significant increase in the probability or consequences of an accident previously evaluated?

Response: No.

Performing [an] SR that tests the DG is not a precursor of any accident previously evaluated. These changes only affect surveillance testing of mitigative equipment and, therefore, do not have an impact on the probability of an accident previously evaluated.

Relaxing the requirement to maintain PF when paralleled to offsite power does not affect performance of the DG under accident conditions. The performance of the surveillances ensures that mitigative equipment is capable of performing its intended function.

Therefore, the proposed changes do not involve a significant increase in the probability or consequences of an accident previously evaluated.

2. Does the proposed change create the possibility of a new or different kind of accident from any accident previously evaluated?

Response: No.

No new accident scenarios, failure mechanisms, or limiting single failures are introduced as a result of the proposed changes. The systems, structures, and components previously required for the mitigation of a transient remain capable of fulfilling their intended design functions. The proposed changes have no adverse effects on a safety-related system or component and do not challenge the performance or integrity of safety related systems. As such, it does not introduce a mechanism for initiating a new or different accident than those described in the Updated Safety Analysis Report.

Therefore, the proposed change does not create the possibility of a new or different kind of accident from any accident previously evaluated.

3. Does the proposed change involve a significant reduction in a margin of safety?

Response: No.

The proposed changes do not involve a significant reduction in a margin of safety. The margin of safety is related to the ability of the fission product barriers to perform their design safety functions during and following an accident situation. These barriers include the fuel cladding, the reactor coolant system, and containment. The proposed changes to the testing requirements for the plant DGs do not affect the OPERABILITY requirements for the DGs, as verification of such OPERABILITY will continue to be performed as required. Continued verification of OPERABILITY supports the capability of the DGs to perform their required function of providing emergency power to plant equipment that supports or constitutes the fission product barriers. Only one DG is tested at a time and the remaining DG will be available to safely shut down the plant or respond to a design basis accident, if required. Consequently, the performance of these fission product barriers will not be impacted by implementation of the proposed amendment.

In addition, the proposed changes involve no changes to safety setpoints or limits established or assumed by the accident analysis. On this and the above basis, no safety margins will be impacted.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street NW., Washington, DC 20037.

NRC Branch Chief: Michael T. Markley.

III. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commissions related letter, Safety Evaluation and/or Environmental Assessment as indicated. All of these items can be accessed as described in the “Obtaining Information and Submitting Comments” section of this document.

Dominion Nuclear Connecticut, Inc., Docket No. 50-336, Millstone Power Station, Unit No. 2, New London County, Connecticut

Date of amendment request: October 22, 2014, as supplemented by letters dated June 5, July 20, and August 27, 2015.

Brief description of amendment: The amendment revised the Technical Specifications (TSs) by relocating specific surveillance frequencies to a licensee controlled program with the adoption of Technical Specification Task Force (TSTF)-425, Revision 3, “Relocate Surveillance Frequencies to Licensee Control-[Risk-Informed Technical Specification Task Force (RITSTF)] Initiative 5b.” Additionally, the amendment added a new program, the Surveillance Frequency Control Program, to TS Section 6, Administrative Controls.

Date of issuance: October 29, 2015.

Effective date: As of the date of issuance and shall be implemented within 90 days from the date of issuance.

Amendment No.: 324. A publicly-available version is in ADAMS under Accession No. ML15280A242; documents related to this amendment are listed in the Safety Evaluation enclosed with the amendment.

Renewed Facility Operating License No. DPR-65: Amendment revised the Renewed Operating License and TSs.

Date of initial notice in Federal Register: April 28, 2015 (80 FR 23601). The supplemental letters dated June 5, July 20, and August 27, 2015, provided additional information that clarified the application, did not expand the scope of the application as originally noticed, and did not change the staff's original proposed no significant hazards consideration determination as published in the Federal Register.

The Commission's related evaluation of the amendment is contained in a Safety Evaluation dated October 29, 2015.

No significant hazards consideration comments received: No.

Duke Energy Florida, Inc. (DEF), et al., Docket No. 50-302, Crystal River Unit 3 Nuclear Generating Plant (CR-3), Citrus County, Florida

Date of amendment request: November 7, 2014, as supplemented by letters dated April 30, 2015, and October 5, 2015.

Brief description of amendment: By Order dated May 29, 2015, as published in the Federal Register on June 8, 2015 (80 FR 32416), the NRC approved a direct license transfer for Facility Operating License No. DPR-72 for the CR-3. This amendment reflects the direct transfer of the ownership held by eight minority co-owners in CR-3 to DEF. The transfer of ownership will take place pursuant to the Settlement, Release and Acquisition Agreement, dated September 26, 2014, wherein DEF will purchase the 6.52 percent combined ownership share in CR-3 held by these minority co-owners, leaving DEF and Seminole Electric Cooperative, Inc. as the remaining licensees for CR-3.

Date of issuance: October 30, 2015

Effective date: As of the date of its issuance and shall be implemented within 60 days of issuance.

Amendment No.: 248. A publicly-available version of the amendment and the Order are in ADAMS under Accession Nos. ML15191A179 and ML15121A570, respectively; documents related to this amendment are listed in the Safety Evaluation enclosed with the Order dated May 29, 2015. Subsequent to the issuance of the order, the licensee submitted a letter dated October 5, 2015 (ADAMS Accession No. ML15280A474). This letter provided insurance documentation and the closing transaction date, as was required by the Order.

Facility Operating License No. DPR-72: Amendment revised the Facility Operating License.

Date of initial notice in Federal Register: April 28, 2015 (80 FR 23612). The supplements dated April 30, 2015, and October 5, 2015, provided additional information that clarified the application, did not expand the scope of the application as originally noticed, and did not change the staff's original proposed no significant hazards consideration determination as published in the Federal Register.

The Commission's related evaluation of the amendment is contained in a Safety Evaluation dated May 29, 2015.

No significant hazards consideration comments received: No.

Exelon Generation Company, LLC, Docket Nos. STN 50-456 and STN 50-457, Braidwood Station, Units 1 and 2, Will County, Illinois Docket Nos. STN 50-454 and STN 50-455, Byron Station, Unit Nos. 1 and 2, Ogle County, Illinois

Date of amendment request: October 16, 2014, as supplemented by letter dated May 27, 2015.

Brief description of amendments: The amendments permit utilization of WCAP-16143-P, Revision 1, “Reactor Vessel Closure Head/Vessel Flange Requirements Evaluation for Byron/Braidwood Units 1 and 2,” dated October 2014, as an analytical method to determine the reactor coolant system pressure and temperature limits.

Date of issuance: October 28, 2015.

Effective date: As of the date of issuance and shall be implemented within 60 days from the date of issuance.

Amendment Nos.: 186, 186, 192, and 192. A publicly-available version is in ADAMS under Accession No. ML15232A441; documents related to these amendments are listed in the Safety Evaluation enclosed with the amendments.

Facility Operating License Nos. NPF-72. NPF-77, NPF-37, and NPF-66: The amendments revised the Facility Operating License and Technical Specifications.

Date of initial notice in Federal Register: March 3, 2015 (80 FR 11494). The supplemental letter dated May 27, 2015, contained clarifying information and did not change the scope of the proposed action or affect the NRC staff's initial no significant hazards consideration determination as published in the Federal Register.

The Commission's related evaluation of the amendments is contained in a Safety Evaluation dated October 28, 2015.

No significant hazards consideration comments received: No.

NextEra Energy Seabrook, LLC, Docket No. 50-443, Seabrook Station, Unit No. 1, Rockingham County, New Hampshire

Date of amendment request: July 24, 2014, as supplemented by letters dated March 9, April 23, June 24, July 9, July 20, and September 8, 2015.

Brief description of amendment: The amendment incorporated revised reactor coolant system (RCS) pressure-temperature limits in the technical specifications (TS) applicable to 55 effective full power years. The change will also provide new overpressure protection setpoints and lower the RCS temperature at which the TS is applicable.

Date of issuance: November 2, 2015.

Effective date: As of the date of issuance and shall be implemented by March 2, 2017.

Amendment No.: 151. A publicly-available version is in ADAMS under Accession No. ML15096A255; documents related to this amendment are listed in the safety evaluation enclosed with the amendment.

Facility Operating License No. NPF-86: Amendment revised the Facility Operating License and TSs.

Date of initial notice in Federal Register: September 30, 2014 (79 FR 58822). The supplemental letters dated March 9, April 23, June 24, July 9, July 20, and September 8, 2015, provided additional information that clarified the application, did not expand the scope of the application as originally noticed, and did not change the staff's original proposed no significant hazards consideration determination as published in the Federal Register.

The Commission's related evaluation of the amendment is contained in a safety evaluation dated November 2, 2015.

No significant hazards consideration comments received: No.

South Carolina Electric and Gas Company, Docket Nos. 52-027 and 52-028, Virgil C. Summer Nuclear Station, Units 2 and 3 (VCSNS), Fairfield County, South Carolina

Date of amendment request: October 23, 2014.

Brief description of amendment: The amendment is to Combined License Nos. NPF-93 and NPF-94 for VCSNS, Units 2 and 3. The amendment consists of changes to Tier 2 information in the Updated Final Safety Analysis Report (UFSAR) for VCSNS, Units 2 and 3 due to administrative changes in the description and scope of the Initial Test Program in the UFSAR to the Facility Combined Licenses. Because the amendment changes Tier 2 information to conform to the associated amendment requested Tier 1 changes that constitute a departure from the AP1000 certified design, South Carolina Electric and Gas Company requested a permanent exemption pursuant to 10 CFR, Part 52, Appendix D, Section III.B, “Design Certification Rule for the AP1000 Design, Scope and Contents.” The exemption allows a departure from certain Tier 1 information in the generic AP1000 Design Control Document (DCD). Specifically, the exemption changes the plant-specific AP1000 DCD Tier 1 information, as specified in LAR 14-08, which are the administrative description and scope of the plant-specific UFSAR, Tier 1, Section 3.4, “Initial Test Program.”

Date of issuance: September 9, 2015.

Effective date: As of the date of issuance and shall be implemented within 30 days of issuance.

Amendment No.: 32. A publicly-available version is in ADAMS under Accession No. ML15195A518 documents related to this amendment are listed in the Safety Evaluation enclosed with the amendment.

Facility Combined Licenses No. NPF-93 and NPF-94: Amendment revised the Facility Combined Licenses.

Date of initial notice in Federal Register: December 9, 2014 (79 FR 73112).

The Commission's related evaluation of the amendment is contained in a Safety Evaluation dated September 9, 2015.

No significant hazards consideration comments received: No.

Susquehanna Nuclear, LLC, Docket Nos. 50-387 and 50-388, Susquehanna Steam Electric Station (SSES), Units 1 and 2, Luzerne County, Pennsylvania

Date of amendment request: December 2, 2014, as supplemented by letters dated February 12, 2015; May 4, 2015; and August 28, 2015.

Brief description of amendments: The amendments revised the SSES, Units 1 and 2, Cyber Security Plan (CSP) Milestone 8 full implementation date as set forth in the SSES CSP Implementation Schedule. The amendments also modified the existing Renewed Facility Operating License Condition 2.D related to implementing and maintaining in effect all provisions of a Commission-approved CSP.

This license amendment request was submitted by PPL Susquehanna, LLC; however, on June 1, 2015, the NRC staff issued an amendment changing the name on the SSES license from PPL Susquehanna, LLC to Susquehanna Nuclear, LLC (ADAMS Accession No. ML15054A066). These amendments were issued subsequent to an order issued on April 10, 2015, to SSES, approving an indirect license transfer of the SSES license to Talen Energy Corporation (ADAMS Accession No. ML15058A073).

Date of issuance: November 2, 2015.

Effective date: As of the date of issuance and shall be implemented within 60 days of issuance.

Amendment Nos.: 264 (Unit 1) and 245 (Unit 2). A publicly-available version is in ADAMS under Accession No. ML15267A381; documents related to these amendments are listed in the Safety Evaluation enclosed with the amendments.

Renewed Facility Operating License Nos. NPF-14 and NPF-22: Amendments revised the Renewed Facility Operating Licenses.

Date of initial notice in Federal Register: July 7, 2015 (80 FR 38776). The supplemental letter dated August 28, 2015, provided additional information that clarified the application, did not expand the scope of the application as originally noticed, and did not change the staff's original proposed no significant hazards consideration determination as published in the Federal Register.

The Commission's related evaluation of the amendments is contained in a Safety Evaluation dated November 2, 2015.

No significant hazards consideration comments received: No.

Tennessee Valley Authority, Docket Nos. 50-259, 50-260, and 50-296, Browns Ferry Nuclear Plant, Units 1, 2, and 3, Limestone County, Alabama

Date of amendment request: March 27, 2013, as supplemented by letters dated May 16, November 22, and December 20, 2013; January 10, January 14, February 13, March 14, May 30, June 13, July 10, August 14, August 26, August 29, September 16, October 6, and December 17, 2014; March 26, April 9, June 19, August 18, September 8, and October 20, 2015.

Brief description of amendment: The amendments modified the Renewed Facility Operating Licenses (RFOLs) and Technical Specifications (TSs) to each unit to incorporate a new fire protection licensing basis in accordance with 10 CFR Section 50.48(c). The amendments authorize the transition of each unit's fire protection program to a risk-informed and performance-based program based on the 2001 Edition of National Fire Protection Association Standard 805, “Performance-Based Standard for Fire Protection for Light Water Reactor Electric Generating Plants.” This standard describes how to use performance-based methods, such as fire modeling and risk-informed methods, to demonstrate compliance with nuclear safety performance criteria.

Date of issuance: October 28, 2015.

Effective date: As of the date of issuance, to be implemented in accordance with the schedule incorporated in the new fire protection license condition of each unit.

Amendment Nos.: 290 (Unit 1), 315 (Unit 2), and 273 (Unit 3). A publicly-available version is in ADAMS under Accession No. ML15212A796; documents related to these amendments are listed in the Safety Evaluation enclosed with the amendments.

RFOL Nos. DPR-33, DPR-52, and DPR-68: Amendments revised the RFOLs and TSs.

Date of initial notice in Federal Register: August 13, 2013 (78 FR 49302). The supplemental letters dated May 16, November 22, and December 20, 2013; January 10, January 14, February 13, March 14, May 30, June 13, July 10, August 14, August 26, August 29, September 16, October 6, and December 17, 2014; March 26, April 9, June 19, August 18, September 8, and October 20, 2015, provided additional information that clarified the application, did not expand the scope of the application as originally noticed, and did not change the staff's original proposed no significant hazards consideration determination as published in the Federal Register.

The Commission's related evaluation of the amendments is contained in a Safety Evaluation dated October 28, 2015.

No significant hazards consideration comments received: No.

Union Electric Company, Docket No. 50-483, Callaway Plant, Unit 1, Callaway County, Missouri

Date of amendment request: March 12, 2015.

Brief description of amendment: The amendment revised the Technical Specification requirements to address NRC Generic Letter 2008-01, “Managing Gas Accumulation in Emergency Core Cooling, Decay Heat Removal, and Containment Spray Systems,” as described in Technical Specification Task Force (TSTF) Traveler TSTF-523, Revision 2, “Generic Letter 2008-01, Managing Gas Accumulation.”

Date of issuance: October 28, 2015.

Effective date: As of the date of issuance and shall be implemented within 90 days of issuance.

Amendment No.: 213. A publicly-available version is in ADAMS under Accession No. ML15258A510; documents related to this amendment are listed in the Safety Evaluation enclosed with the amendment.

Renewed Facility Operating License No. NPF-30: The amendment revised the Operating License and TS.

Date of initial notice in Federal Register: June 9, 2015 (80 FR 32630).

The Commission's related evaluation of the amendment is contained in a Safety Evaluation dated October 28, 2015.

No significant hazards consideration comments received: No.

Dated at Rockville, Maryland, this 12th day of November 2015.
For the Nuclear Regulatory Commission.
Anne T. Boland,
Director, Division of Operating Reactor Licensing, Office of Nuclear Reactor Regulation.

[FR Doc. 2015-29696 Filed 11-23-15; 8:45 am]

BILLING CODE 7590-01-P